DEPARTMENT OF AGRICULTURE

Animal and Plant Health Inspection Service

7 CFR Part 319

[Docket No. 03-019-4]

Certification Program for Imported Articles of Pelargonium spp. and Solanum spp. to Prevent Introduction of Potato Brown Rot; Correction

AGENCY: Animal and Plant Health Inspection Service, USDA.

ACTION: Final rule; correction.

SUMMARY: We are correcting an error in the amendatory instructions in our final rule that amended the provisions of a certification program for articles of Pelargonium spp. and Solanum spp. imported from countries where the bacterium Ralstonia solanacearum race 3 biovar 2 is known to occur. The final rule was effective and published in the Federal Register on October 24, 2005 (70 FR 61351-61362, Docket No. 03-019-3).

EFFECTIVE DATE: December 1, 2005.

FOR FURTHER INFORMATION CONTACT: Ms. Jeanne Van Dersal, Import Specialist, Phytosanitary Issues Management Team, PPQ, APHIS, 4700 River Road Unit 140, Riverdale, MD 20737-1236; (301) 734-6653.

SUPPLEMENTARY INFORMATION: In a final rule effective and published in the Federal Register on October 24, 2005 (70 FR 61351-61362, Docket No. 03-019-3), we amended the provisions of a certification program for articles of Pelargonium spp. and Solanum spp. imported from countries where the bacterium Ralstonia solanacearum race 3 biovar 2 is known to occur.

In the final rule, it was our intention to amend the regulations by amending paragraph (r)(3)(viii) of § 319.37-5 to modify its restrictions on growing media used in production of articles of Pelargonium spp. and Solanum spp. under the certification program. However, our amendatory instruction referred instead to paragraph (r)(3)(vii). This document corrects that error by revising paragraph (r)(3)(viii).

List of Subjects in 7 CFR Part 319

Coffee, Cotton, Fruits, Imports, Logs, Nursery stock, Plant diseases and pests, Quarantine, Reporting and recordkeeping requirements, Rice, Vegetables.

Accordingly, 7 CFR part 319 is corrected by making the following correcting amendments:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.37-5, revise paragraph (r)(3)(viii) to read as follows:

§ 319.37-5 Special foreign inspection and certification requirements.

* * * * *

(r) * * *

(3) * * *

(viii) Growing media for articles of Pelargonium spp. and Solanum spp. must be free of R. solanacearum race 3 biovar 2. Growing media and containers for articles of Pelargonium spp. and Solanum spp. must not come in contact with growing media that could transmit R. solanacearum race 3 biovar 2 and must be grown in an APHIS-approved growing medium.

* * * * *

Done in Washington, DC, this 22nd day of November 2005.
Elizabeth E. Gaston,
Acting Administrator, Animal and Plant Health Inspection Service.

[FR Doc. 05-23531 Filed 11-30-05; 8:45 am]

BILLING CODE 3410-34-P